DEPARTMENT OF THE INTERIOR

Minerals Management Service

[Docket No. MMS-2009-OMM-0007]

MMS Information Collection Activity: 1010-0177, Global Positioning System for MODUs, Extension of a Collection; Submitted for Office of Management and Budget (OMB) Review; Comment Request

AGENCY: Minerals Management Service (MMS), Interior.

ACTION: Notice of revision of an information collection (1010-0177).

SUMMARY: To comply with the Paperwork Reduction Act of 1995 (PRA), we are notifying the public that we have submitted to OMB an information collection request (ICR) to renew approval of the paperwork requirements associated with 30 CFR 250, Subpart A, “General,” and related documents. This notice also provides the public a second opportunity to comment on the paperwork burden of these regulatory requirements.

DATES: Submit written comments by October 26, 2009.

ADDRESSES: Submit comments by either fax (202) 395-5806 or e-mail (OIRA_DOCKET@omb.eop.gov) directly to the Office of Information and Regulatory Affairs, OMB, Attention: Desk Officer for the Department of the Interior (1010-0177). Please also submit a copy of your comments to MMS by any of the means below.

• Electronically: go to http://www.regulations.gov. In the entry titled “Enter Keyword or ID,” enter docket ID MMS-2009-OMM-0007 then click search. Under the tab “View By Relevance” you can submit public comments and view supporting and related materials available for this collection of information. The MMS will post all comments.

• Mail or hand-carry comments to the Department of the Interior; Minerals Management Service; Attention: Cheryl Blundon; 381 Elden Street, MS-4024; Herndon, Virginia 20170-4817. Please reference Information Collection 1010-0177 in your subject line and include your name and return address.

FOR FURTHER INFORMATION CONTACT: Cheryl Blundon, Regulations and Standards Branch, (703) 787-1607. You may also contact Cheryl Blundon to obtain a copy, at no cost, of the regulation and the Notice to Lessees and/or Operators (NTL) that requires the subject collection of information.

SUPPLEMENTARY INFORMATION: Title: 30 CFR 250, Subpart A, General-NTL-Gulf of Mexico OCS Region-GPS (Global Positioning System) for Mobile Offshore Drilling Units (MODUs).

OMB Control Number: 1010-0177.

Abstract: The Outer Continental Shelf (OCS) Lands Act, as amended (43 U.S.C. 1331 et seq. and 43 U.S.C. 1801 et seq.), authorizes the Secretary of the Interior (Secretary) to prescribe rules and regulations to administer leasing of the OCS. Such rules and regulations apply to all operations conducted under a lease. Operations on the OCS must preserve, protect, and develop oil and natural gas resources in a manner that is consistent with the need to make such resources available to meet the Nation's energy needs as rapidly as possible; to balance orderly energy resource development with protection of human, marine, and coastal environments; to ensure the public a fair and equitable return on the resources of the OCS; to preserve and maintain free enterprise competition; and to ensure that the extent of oil and natural gas resources of the OCS is assessed at the earliest practicable time. Section 43 U.S.C. 1332(6) states that “operations in the outer Continental Shelf should be conducted in a safe manner by well-trained personnel using technology, precautions, and techniques sufficient to prevent or minimize the likelihood of blowouts, loss of well control, fires, spillages, physical obstruction to other users of the waters or subsoil and seabed, or other occurrences which may cause damage to the environment or to property, or endanger life or health.”

To carry out these responsibilities, the Minerals Management Service (MMS) issues regulations to ensure that operations in the OCS meet statutory requirements; provide for safety and protect the environment; and result in diligent exploration, development, and production of OCS leases. In addition, we also issue Notices to Lessees (NTLs) that provide clarification, explanation, and interpretation of our regulations. These NTLs are used to convey purely informational material and to cover situations that might not be adequately addressed in our regulations.

Regulations at 30 CFR part 250 implement these statutory requirements. The MMS uses the information collected from these requirements to assess the whereabouts of any Mobile Offshore Drilling Unit (MODU) becoming unmoored due to extreme weather situations, as well as, to follow the path of that facility to determine if other facilities/pipelines, etc., were damaged in any way. The offshore oil and gas industry uses the information to determine the safest and quickest way to either remove the obstacles or to fix and reuse them.

We will protect information from respondents considered proprietary under the Freedom of Information Act (5 U.S.C. 552) and its implementing regulations (43 CFR part 2) and under regulations at 30 CFR 250.197. Data and information to be made available to the public or for limited inspection. No items of a sensitive nature are collected. Responses are required to obtain or retain a benefit.

Frequency: On occasion.

Description of Respondents: Potential respondents comprise Federal oil and gas lessees and operators that drill using MODUs.

Estimated Reporting and Recordkeeping Hour Burden: The estimated annual hour burden for this information collection is a total of 9 hours. The following chart details the individual components and estimated hour burdens. In calculating the burdens, we assumed that respondents perform certain requirements in the normal course of their activities. We consider these to be usual and customary and took that into account in estimating the burden.

NTL—Gulf of Mexico OCS Region—GPS for MODUs
| Hour burden | Average No. of annual responses | Annual burden hours
| Non-hour cost burdens
1—Notify MMS with tracking/locator data access; purchase and install tracking/locator devices (these are future MODUs submissions after initial purchase and notification in subsequent years) | 15 mins | 30 devices | 8 (rounded).
| 30 devices per year for replacement and/or new × $5,000 = $150,000.
2—Notify Hurricane Response Team as soon as operator is aware a rig has moved off location | 10 mins | 6 notifications | 1
Total Burden |  | 36 responses | 9 hours.
|  | $ 150,000 non-hour cost burden.

Estimated Reporting and Recordkeeping Non-Hour Cost Burden: We have identified one non-hour paperwork cost burden associated with the collection of information, see the burden table.

Public Disclosure Statement: The PRA (44 U.S.C. 3501, et seq.) provides that an agency may not conduct or sponsor a collection of information unless it displays a currently valid OMB control number. Until OMB approves a collection of information, you are not obligated to respond.

Comments: Section 3506(c)(2)(A) of the PRA (44 U.S.C. 3501, et seq.) requires each agency “* * * to provide notice * * * and otherwise consult with members of the public and affected agencies concerning each proposed collection of information * * *” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

To comply with the public consultation process, on June 8, 2009, we published a Federal Register notice (74 FR 27166) announcing that we would submit this ICR to OMB for approval. The notice provided the required 60-day comment period. In addition, § 250.199 provides the OMB control numbers for the information collection requirements imposed by the 30 CFR part 250 regulations. The regulation also informs the public that they may comment at any time on the collections of information and provides the address to which they should send comments. We have received no comments in response to these efforts.

If you wish to comment in response to this notice, you may send your comments to the offices listed under the ADDRESSES section of this notice. The OMB has up to 60 days to approve or disapprove the information collection but may respond after 30 days. Therefore, to ensure maximum consideration, OMB should receive public comments by October 26, 2009.

Public Availability of Comments: Before including your address, phone number, e-mail address, or other personal identifying information in your comment, you should be aware that your entire comment—including your personal identifying information—may be made publicly available at any time. While you can ask us in your comment to withhold your personal identifying information from public review, we cannot guarantee that we will be able to do so.

MMS Information Collection Clearance Officer: Arlene Bajusz, (202) 208-7744.

Dated: September 2, 2009.
E.P. Danenberger,
Chief, Office of Offshore Regulatory Programs.

[FR Doc. E9-23222 Filed 9-24-09; 8:45 am]

BILLING CODE 4310-MR-P